DEPARTMENT OF ENERGY

Federal Energy Regulatory Commission

[Docket No. EL14-54-000]

Great River Energy; Notice of Petition for Partial Waiver

Take notice that on May 16, 2014, pursuant to section 292.402 of the Federal Energy Regulatory Commission's (Commission) regulations, 18 CFR 292.402, Great River Energy (Great River), on behalf of itself and its twenty “all-requirements” electric distribution cooperative member-owners (collectively, Participating Members) ¹ filed a petition for a partial waiver of certain obligations imposed on Great River and the Participating Members under sections 292.303(a) and 292.303(b) of the Commission's Regulations ² implementing section 210 of the Public Utility Regulatory Policies Act of 1978, as amended.³

¹ The Participating Members joining in this petition include all of Great River's “all-requirements” members which members purchase substantially all of their electric requirements from Great River, including: Arrowhead Cooperative; BENCO Electric Cooperative; Brown County Rural Electrical Association, Connexus Energy; Cooperative Light & Power; Dakota Electric Association; East Central Energy; Goodhue County Cooperative Electric Association; Itasca-Mantrap Cooperative Electrical Association; Kandiyohi Power Cooperative; Lake Country Power; Lake Region Electric Cooperative; McLeod Cooperative Power Association; Mille Lacs Energy Cooperative; Nobles Cooperative Electric; North Itasca Electric Cooperative; Runestone Electric Association; Stearns Electric Association; Steele-Waseca Cooperative Electric; and Todd-Wadena Electric Cooperative. Great River has eight other members who are not “all-requirements” members of Great River and who are not Participating Members for the purpose of this petition.

² 18 CFR 292.303(a) and (b).

³ 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 6, 2014.

Dated: May 23, 2014.
Kimberly D. Bose,
Secretary.

[FR Doc. 2014-12637 Filed 5-30-14; 8:45 am]

BILLING CODE 6717-01-P